DEPARTMENT OF TRANSPORTATION

Coast Guard

46 CFR Part 126

[USCG-2001-10164]

RIN 2115-AG17

Alternate Compliance Program; Incorporation of Offshore Supply Vessels

AGENCY: Coast Guard, DOT.

ACTION: Direct final rule; confirmation of effective date.

SUMMARY: On October 23, 2001, we published a direct final rule (66 FR 53542). The direct final rule notified the public of our intent to incorporate Offshore Supply Vessels (OSVs) into the Alternate Compliance Program (ACP). This action will improve the flexibility of regulations governing OSVs by providing an alternative method for vessel design, inspection, and certification without compromising existing safety standards. We have not received an adverse comment, or notice of intent to submit an adverse comment, on this rule. Therefore, this rule will go into effect as scheduled.

DATES: The effective date of the direct final rule is confirmed as January 22, 2002.

FOR FURTHER INFORMATION CONTACT: If you have questions on this rule, contact Lieutenant Benjamin Nicholson, United States Coast Guard Office of Design and Engineering Standards (G-MSE), at 202-267-0143, or e-mail him at BNicholson@comdt.uscg.mil.

Dated: January 10, 2002.
Joseph J. Angelo,
Acting Assistant Commandant for Marine Safety and Environmental Protection.

[FR Doc. 02-1251 Filed 1-16-02; 8:45 am]

BILLING CODE 4910-15-U